DEPARTMENT OF HOMELAND SECURITY

Federal Emergency Management Agency

44 CFR Part 67

[Docket ID FEMA-2011-0002]

Final Flood Elevation Determinations

Correction

In rule document 2011-15507, beginning on page 36373, in the issue of Wednesday June 22, 2011, make the following corrections:

§ 67.11 [Corrected]

1. On page 36379, in the first column of the table for Clinton County, Iowa, “Unincorporated Areas of Clinton County” should not have appeared.

2. On the same page, in the first column of the table for Muscatine County, Iowa, “Unincorporated Areas of Muscatine County, Iowa” should not have appeared.

[FR Doc. C1-2011-15507 Filed 10-3-11; 8:45 am]

BILLING CODE 1505-01-D